DEPARTMENT OF STATE

[Public Notice 6855]

Notice of Availability of the Draft Environmental Assessment for Proposed San Diego-Tijuana Airport Cross Border Facility

AGENCY: Department of State.

ACTION: Notice.

SUMMARY: On October 2, 2009, the Department of State published in the Federal Register (74 FR 50997) a Notice of Receipt of Application for a Presidential Permit for an International Pedestrian Bridge on the U.S.-Mexico Border near San Diego, California and Tijuana, Baja California, Mexico. This notice requested comment on Otay-Tijuana Venture, L.L.C.'s application for a Presidential permit to authorize the construction, operation, and maintenance of a new international pedestrian bridge called the San Diego-Tijuana Airport Cross Border Facility (CBF) on the U.S.-Mexico border near San Diego, California and Tijuana, Baja California, Mexico. The Department now gives notice of the availability of, and requests comment on, the draft environmental assessment (EA) that the project sponsor prepared under the Department's guidance.

The Department's jurisdiction over this application is based upon Executive Order 11423 of August 16, 1968, as amended. As provided in E.O. 11423, the Department is circulating this application and the draft environmental assessment to relevant Federal and State agencies for review and comment. Under E.O. 11423, the Department has the responsibility to determine, taking into account input from these agencies and other stakeholders, whether issuance of a Presidential permit for this proposed bridge would be in the U.S. national interest.

DATES: Interested members of the public are invited to submit written comments regarding this draft environmental assessment on or before February 12, 2010 to Elizabeth Orlando (NEPA Program Manager) and Rob Allison (Office of Mexican Affairs), via e-mails to orlandoea2@state.gov and WHA-BorderAffairs@state.gov or by mail to WHA/MEX—Room 3909, Department of State, Washington, DC 20520.

FOR FURTHER INFORMATION CONTACT: Elizabeth Orlando (NEPA Program Manager) and/or Rob Allison (Office of Mexican Affairs), via e-mails to orlandoea2@state.gov and WHA-BorderAffairs@state.gov; by phone at 202-647-9894; or by mail at WHA/MEX—Room 3909, Department of State, Washington, DC 20520. General information about Presidential Permits is available on the Internet at http://www.state.gov/p/wha/rt/permit/.

SUPPLEMENTARY INFORMATION: The application and draft environmental assessment (EA) are available for review in the Office of Mexican Affairs during normal business hours. The draft EA is also available at the City of San Diego Otay-Nestor Branch Library located at 3003 Coronado Ave, San Diego, California 92154-1521.

In accordance with Section 102(C) of the National Environmental Policy Act of 1969 (NEPA) (42 U.S.C. 4332(C)) and implementing regulations promulgated by the Council on Environmental Quality (40 CFR parts 1500-1508) and the Department of State (22 CFR part 161), including in particular 22 CFR 161.7(c)(1), a draft EA was prepared by Otay-Tijuana Venture, L.L.C. on behalf of the Department of State to determine if there are any potential significant impacts from, and to address alternatives to, the proposed action.

The draft EA addresses the potential environmental effects of the construction and operation of the United States portion of the Cross Border Facility (CBF). According to the application and draft EA, the CBF would enable ticketed airline passengers to travel between Mexico's Tijuana International Airport (TIJ) and San Diego, California, via an enclosed, elevated pedestrian bridge. The CBF will consist of: a main building on the U.S. side of the border housing U.S. Customs and Border Protection (CBP) inspection facilities along with shops and services to accommodate travelers; an approximately 525-foot pedestrian bridge from the main building on the U.S. side connecting into TIJ's passenger terminal on the Mexican side; and parking facilities and areas for car rentals and potentially bus service on the U.S. side. According to the application, the CBF would allow passengers to bypass San Diego's congestion-prone ports of entry and avoid driving through the City of Tijuana.

Dated: December 18, 2009.
Alex Lee,
Director, Office of Mexican Affairs, Department of State.

[FR Doc. E9-30688 Filed 12-28-09; 8:45 am]

BILLING CODE 4710-29-P